DEPARTMENT OF VETERANS AFFAIRS

Rehabilitation Research and Development Service Scientific Merit Review Board, Notice of Meeting

The Department of Veterans Affairs (VA) gives notice under the Federal Advisory Committee Act, 5 U.S.C. App. 2, that the subcommittees of the Rehabilitation Research and Development Service Scientific Merit Review Board will meet from 8 a.m. to 5 p.m. on the dates indicated below:

Subcommittee | Date(s) | Location
Aging and Neurodegenerative Disease | February 20, 2013 | * VA Central Office.
Rehabilitation Engineering and Prosthetics/Orthotics | February 20, 2013 | Courtyard DC/U.S. Capitol.
Brain Injury: TBI & Stroke | February 20-21, 2013 | * VA Central Office.
Musculoskeletal/Orthopedic Rehabilitation | February 20-21, 2013 | Paralyzed Veterans of America.
Psychological Health and Social Reintegration | February 20-21, 2013 | Paralyzed Veterans of America.
Sensory Systems/Communication | February 26, 2013 | Paralyzed Veterans of America.
Regenerative Medicine | February 26-27, 2013 | Paralyzed Veterans of America.
Career Development Award Program and Research Career Scientists | February 26-28, 2013 | *VA Central Office.
Spinal Cord Injury | February 28, 2013 | * VA Central Office.

The addresses of the meeting sites are:

VA Central Office, 131 M Street NE., Washington, DC 20002 (*Teleconfernce)

Courtyard DC/U.S. Capitol, 1325 2nd Street NE., Washington, DC 20002.

Paralyzed Veterans of America, 801 Eighteenth Street NW., Washington, DC 20006.

The purpose of the Board is to review rehabilitation research and development applications and advise the Director, Rehabilitation Research and Development Service, and the Chief Research and Development Officer on the scientific and technical merit, the mission relevance, and the protection of human and animal subjects.

The subcommittee meetings will be open to the public for approximately one-half hour at the start of each meeting to cover administrative matters and to discuss the general status of the program. The remaining portion of each subcommittee meetings will be closed to the public for the discussion, examination, reference to, and oral review of the research applications and critiques. During the closed potion of each subcommittee meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

No oral or written comments will be accepted from the public for either portion of the meetings. Those who plan to attend the open portion of a subcommittee meeting should contact Tiffany Asqueri, Designated Federal Officer, Rehabilitation Research and Development Service, at Department of Veterans Affairs (10P9R), 810 Vermont Avenue NW., Washington, DC 20420, or email tiffany.asqueri@va.gov. For further information, please call Mrs. Asqueri at (202) 443-5757.

Dated: February 4, 2013.
By Direction of the Secretary:
Vivian Drake,
Committee Management Officer.

[FR Doc. 2013-02806 Filed 2-7-13; 8:45 am]

BILLING CODE P